DEPARTMENT OF LABOR

Occupational Safety and Health Administration

[Docket No. NRTL3-90]

Southwest Research Institute; Application for Renewal and Expansion of Recognition

AGENCY: Occupational Safety and Health Administration (OSHA), Labor.

ACTION: Notice.

SUMMARY: This notice announces the application of Southwest Research Institute (SWRI) for renewal and expansion of its recognition and presents the Agency's preliminary finding in favor of granting this request. This preliminary finding does not constitute an interim or temporary approval of this application.

DATES: You must submit information or comments, or any request for extension of the time to comment, by the following dates:

• Hard copy: Postmarked or sent by October 23, 2006.

• Electronic transmission or facsimile: Sent by October 23, 2006.

ADDRESSES: You may submit information or comments to this notice—identified by docket number NRTL3-90—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL3-90, U.S. Department of Labor, 200 Constitution Avenue, NW., Room N-2625, Washington, DC 20210; telephone (202) 693-2350. (OSHA's TTY number is (877) 889-5627.) OSHA Docket Office hours of operation are 8:15 a.m. to 4:45 p.m., EST.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to the Office of Technical Programs and Coordination Activities, NRTL Program, Occupational Safety and Health Administration, U.S. Department of Labor, 200 Constitution Avenue, NW., Room N-3655, Washington, DC 20210. Or fax to (202) 693-1644.

FOR FURTHER INFORMATION CONTACT: Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Renewal Application

The Occupational Safety and Health Administration (OSHA) hereby gives notice that Southwest Research Institute (SWRI) has applied for renewal of its recognition as a Nationally Recognized Testing Laboratory (NRTL). The SWRI renewal request covers its existing scope of recognition, except as noted below. OSHA's current scope of recognition for SWRI may be found in the following informational Web page: http://www.osha.gov/dts/otpca/nrtl/swri.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent notice published by OSHA specifically related to the SWRI recognition granted renewal of its NRTL status, which became effective as noted below. However, OSHA issued a notice modifying the scope of a number of NRTLs to replace or delete withdrawn test standards (70 FR 11273, March 8, 2005). SWRI was one of those NRTLs.

The current address of the SWRI facility already recognized by OSHA is: Southwest Research Institute, 6220 Culebra Road, Post Office Drawer 28510, San Antonio, TX 78228.

General Background on the Renewal Application

SWRI initially received OSHA recognition as an NRTL on July 13, 1993, (58 FR 37752) for a five-year period ending on July 13, 1998. Appendix A to 29 CFR 1910.7 stipulates that the period of recognition of an NRTL is five years and that an NRTL may renew its recognition by applying not less than nine months, nor more than one year, before the expiration date of its current recognition. NRTLs submitting requests within this allotted time period retain their recognition during OSHA's renewal process. SWRI submitted the required request and received its first renewal of recognition on March 9, 1999 (64 FR 11503), for the five-year period ending March 9, 2004. SWRI submitted a request dated June 4, 2003, (see Exhibit 14) to renew its recognition again. This request falls within the allotted time period, and SWRI retains its recognition pending OSHA's final decision in this renewal process.

In its June 4, 2003, application, the NRTL included an earlier request to expand its recognition to include three additional test standards, but has since eliminated two of these standards from its request. The NRTL Program staff has determined that the remaining standard is an “appropriate test standard” within the meaning of 29 CFR 1910.7(c). Including this one standard, OSHA would approve 12 test standards for the renewal. In connection with the renewal, OSHA staff performed an on-site visit of the NRTL's site in April 2005, and the assessor recommended renewal of the SWRI recognition in a memo dated August 31, 2005 (see Exhibit 14-1). The assessor had previously recommended approval of the additional standard (also see Exhibit 14-1), but the expansion was deferred pending SWRI's decision regarding the two standards it has since eliminated.

SWRI seeks renewal of its recognition for the one site that OSHA currently includes within the NRTL's scope. SWRI also seeks renewal of its recognition for testing and certification of products for demonstration of conformance to the following test standards:

ASTM E2074 Standard Method for Fire Tests of Door Assemblies.

UL 10A Tin-Clad Fire Doors.

UL 10B Fire Tests of Door Assemblies.

UL 94 Tests for Flammability of Plastic Materials for Parts in Devices and Appliances.

UL 155 Tests of Fire Resistance of Vault and File Room Doors.

UL 162 Foam Equipment and Liquid Concentrates.

*UL 525 Flame Arresters.

UL 555 Fire Dampers.

UL 711 Rating and Fire Testing of Fire Extinguishers.

UL 1887 Fire Test of Plastic Sprinkler Pipe for Visible Flame and Smoke Characteristics.

UL 2085 Protected Aboveground Tanks for Flammable and Combustible Liquids.

UL 60950 Information Technology Equipment.

*Test standard to be included as a result of expansion request.

The designations and titles of the above test standards were current at the time of the preparation of this notice.

OSHA's recognition of SWRI, or any NRTL, for a particular test standard is limited to equipment or materials (i.e., products) for which OSHA standards require third-party testing and certification before use in the workplace. Consequently, if a test standard also covers any product(s) for which OSHA does not require such testing and certification, an NRTL's scope of recognition does not include that product(s).

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Programs and Procedures

The renewal would include continued use by SWRI of supplemental programs 2, 3, 4, and 9.

Program 2: Acceptance of testing data from independent organizations, other than NRTLs.

Program 3: Acceptance of product evaluations from independent organizations, other than NRTLs.

Program 4: Acceptance of witnessed testing data.

Program 9: Acceptance of services other than testing or evaluation performed by subcontractors or agents.

In developing these programs, OSHA responded to industry requests and allowed certain of their ongoing practices to continue but in a manner controlled by OSHA criteria. In this sense, they are special conditions that the Agency places on an NRTL's recognition. OSHA does not consider these programs in determining whether an NRTL meets the requirements for recognition under 29 CFR 1910.7. However, these programs help to define the scope of that recognition.

Preliminary Finding on the Renewal

SWRI has submitted an acceptable request for renewal and expansion of its recognition as an NRTL. Our review of the application file, the assessor's memos, and other pertinent documents, indicates that SWRI can meet the requirements, as prescribed by 29 CFR 1910.7, for the renewal of the one site and the test standards and programs listed above, and for the expansion to include the one additional test standard, as noted. This preliminary finding does not constitute an interim or temporary approval of the application.

OSHA welcomes public comments, in sufficient detail, as to whether SWRI has met the requirements of 29 CFR 1910.7 for the renewal and expansion of its recognition as an NRTL. Your comments should consist of pertinent written documents and exhibits. Should you need more time to comment, you must request it in writing, including reasons for the request. OSHA must receive your written request for extension at the address provided above no later than the last date for comments. OSHA will limit any extension to 30 days, unless the requester justifies a longer period. You may obtain or review copies of the SWRI request, the on-site review report, other pertinent documents, and all submitted comments, as received, by contacting the Docket Office, Room N2625, Occupational Safety and Health Administration, U.S. Department of Labor, at the above address. Docket No. NRTL3-90 contains all materials in the record concerning the SWRI application.

The NRTL Program staff will review all timely comments and, after resolution of issues raised by these comments, will recommend whether to grant SWRI's renewal and expansion request. The Assistant Secretary will make the final decision on granting the renewal and expansion and, in making this decision, may undertake other proceedings that are prescribed in Appendix A to 29 CFR Section 1910.7. OSHA will publish a public notice of this final decision in the Federal Register.

Signed at Washington, DC this 25th day of September, 2006.
Edwin G. Foulke, Jr.,
Assistant Secretary.

[FR Doc. E6-16588 Filed 10-5-06; 8:45 am]

BILLING CODE 4510-26-P